DEPARTMENT OF DEFENSE

Department of the Air Force

HQ USAF Scientific Advisory Board

AGENCY: Department of the Air Force, DoD.

ACTION: Notice of meeting.

SUMMARY: Pursuant to Pub. L. 92-463, notice is hereby given of the forthcoming meeting of the Air Force Scientific Advisory Board. The purpose for this meeting is to provide SAB Members with operational appreciation of USAF activities and to allow discussion time for the five approved fiscal year 2005 studies. The studies are: “Automatic Target Recognition”, “Domain Integrations”, “System of Systems Engineering”, “Air Force Operations in Urban Environments”, and “Near Space”. Because classified and contractor-proprietary information will be discussed, this meeting will be closed to the public.

DATES: 12-14 April 2005.

ADDRESSES: Building 1, Peterson Air Force Base, Colorado Springs, CO 80914-3808.

FOR FURTHER INFORMATION CONTACT: Major Mike Walker, Air Force Scientific Advisory Board Secretariat, 1180 Air Force Pentagon, Rm 5D982, Washington, DC 20330-1180, (703) 697-4811.

Albert Bodnar,
Air Force Federal Register Liaison Officer.

[FR Doc. 05-4929 Filed 3-11-05; 8:45 am]

BILLING CODE 5001-05-P